DEPARTMENT OF TRANSPORTATION

Federal Railroad Administration

[Docket No. FRA-2000-7257; Notice No. 65]

Railroad Safety Advisory Committee (RSAC); Working Group Activity Update

AGENCY: Federal Railroad Administration (FRA), Department of Transportation (DOT).

ACTION: Announcement of Railroad Safety Advisory Committee (RSAC) Working Group Activities.

SUMMARY: The FRA is updating its announcement of RSAC's Working Group activities to reflect its current status.

FOR FURTHER INFORMATION CONTACT: Larry Woolverton, RSAC Designated Federal Officer/Administrative Officer, FRA, 1200 New Jersey Avenue, SE., Mailstop 25, Washington, DC 20590, (202) 493-6212; or Robert Lauby, Deputy Associate Administrator for Regulatory and Legislative Operations, FRA, 1200 New Jersey Avenue, SE., Mailstop 25, Washington, DC 20590, (202) 493-6474.

SUPPLEMENTARY INFORMATION: This notice serves to update FRA's last announcement of working group activities and status reports of August 20, 2010 (75 FR 51525). The 42nd full RSAC meeting was held September 23, 2010, and the 43rd meeting is scheduled for December 14, 2010, at the National Association of Home Builders, National Housing Center, located at 1201 15th Street, NW., Washington, DC 20005.

Since its first meeting in April of 1996, the RSAC has accepted 34 tasks. Status for each of the open tasks (neither completed nor terminated) is provided below:

Open Tasks

Task 96-4—Tourist and Historic Railroads. Reviewing the appropriateness of the agency's current policy regarding the applicability of existing and proposed regulations to tourist, excursion, scenic, and historic railroads. This task was accepted on April 2, 1996, and a Working Group was established. The Working Group monitored the steam locomotive regulation task. Planned future activities involve the review of other regulations for possible adaptation to the safety needs of tourist and historic railroads. Contact: Robert Lauby, (202) 493-6474.

Task 03-01—Passenger Safety. This task includes updating and enhancing the regulations pertaining to passenger safety, based on research and experience. This task was accepted on May 20, 2003, and a Working Group was established. Prior to embarking on substantive discussions of a specific task, the Working Group set forth in writing a specific description of the task. The Working Group reports planned activity to the full RSAC at each scheduled full RSAC meeting, including milestones for completion of projects and progress toward completion. At the first meeting held on September 9-10, 2003, a consolidated list of issues was completed. At the second meeting, held on November 6-7, 2003, four task groups were established: Emergency Preparedness, Mechanical, Crashworthiness, and Track/Vehicle Interaction. The task forces met and reported on activities for Working Group consideration at the third meeting, held on May 11-12, 2004, and a fourth meeting was held October 26-27, 2004. The Working Group met on March 21-22, 2006, and again on September 12-13, 2006, at which time the group agreed to establish a task force on General Passenger Safety. The full Passenger Safety Working Group met on April 17-18, 2007; December 11-12, 2007; November 13, 2008; and June 8, 2009. On August 5, 2009, the Working Group was requested to establish an Engineering Task Force (ETF) to consider technical criteria and procedures for qualifying alternative passenger equipment designs as equivalent in safety to equipment meeting the design standards in the Passenger Equipment Safety Standards. The Working Group met on September 16, 2010; currently there are no additional meetings scheduled. Contact: Charles Bielitz, (202) 493-6314.

(Engineering Task Force) The Passenger Safety Working Group approved a request from FRA to establish an ETF under the Passenger Safety Working Group in August 2009. The mission of the ETF is to produce a set of technical evaluation criteria and procedures for passenger rail equipment built to alternative designs. The technical evaluation criteria and procedures would provide a means of establishing whether an alternative design would result in performance at least equal to the structural design standards set forth in the Passenger Equipment Safety Standards (Title 49 Code of Federal Regulations (CFR) Part 238). The initial focus of this effort will be on Tier I standards. When completed, the criteria and procedures would form a technical basis for making determinations concerning equivalent safety pursuant to 49 CFR Section 238.201, and provide a technical framework for presenting evidence to FRA in support of any request for waiver of the compressive (buff) strength requirement, as set forth in 49 CFR 238.203. See 49 CFR part 211, Rules of Practice. The criteria and procedures could be incorporated into 49 CFR part 238 at a later date after a notice and an opportunity for public comment. The ETF was formed and a kickoff meeting was held on September 23-24, 2009. The group met again on November 3-4, 2009; January 7-8, 2010; and March 9-10, 2010. A followup GoTo/Webinar meeting was held on July 12, 2010. The ETF developed a draft Criteria and Procedures Report that was approved by the Passenger Safety Working Group during the September 16, 2010, meeting and by the RSAC Committee during the September 23, 2010, meeting. The document has been placed on the FRA Web site at the following address: http://www.fra.dot.gov/downloads/safety/RSAC_REPORT-%209-16-10.pdf.

(Engineering Task Force II) To build on the success of the ETF in developing a set of alternative technical criteria and procedures for evaluating the crashworthiness and occupant protection performance of passenger rail equipment in service at conventional operating speeds, the FRA requested that the Passenger Safety Working Group re-task the group to concentrate on developing crashworthiness and occupant protection safety recommendations for high-speed passenger trains. The Passenger Safety Working Group accepted the task on July 28, 2010, by electronic vote. Under the new task, the task force may address any safety features of the equipment, including, but not limited to, crashworthiness, interior occupant protection, glazing, emergency egress, and fire safety features. Any type of equipment may be addressed, including conventional locomotives, high-speed power cars, cab cars, multiple-unit (MU) locomotives, and coach cars. The equipment addressed may be used in any type of passenger service, from conventional-speed to high-speed. Recommendations may take the form of criteria and procedures, revisions to existing regulations, or adoption of new regulations, including rules of particular applicability. The work of the re-tasked ETF is intended to assist FRA in developing appropriate safety standards for the high-speed rail projects planned in California and Florida. The ETF II held a kickoff meeting on October 21-22, 2010, to begin work on the new high-speed task and has a followup meeting scheduled for January 11-12, 2011. Contact: Robert Lauby, (202) 493-6474.

(Emergency Preparedness Task Force) At the Working Group meeting on March 9-10, 2005, the Working Group received and approved the consensus report of the Emergency Preparedness Task Force related to emergency communication, emergency egress, and rescue access. These recommendations were presented to and approved by the full RSAC on May 18, 2005. The Working Group met on September 7-8, 2005, and additional, supplementary recommendations were presented to and accepted by the full RSAC on October 11, 2005. The Notice of Proposed Rulemaking (NPRM) was published on August 24, 2006 (71 FR 50275), and was open for comment until October 23, 2006. The Working Group agreed upon recommendations for the final rule, including resolution of final comments received, during the April 17-18, 2007, meeting. The recommendations were presented to and approved by the full RSAC on June 26, 2007. The Passenger Train Emergency Systems final rule, focusing on emergency communication, emergency egress, and rescue access, was published on February 1, 2008 (73 FR 6370). The task force met on October 17-18, 2007, and reached consensus on the draft rule text for a followup NPRM on Passenger Train Emergency Systems, focusing on low location emergency exit path marking, emergency lighting, and emergence signage. The task force presented the draft rule text to the Passenger Safety Working Group on December 11-12, 2007, and the consensus draft rule text was presented to and approved by full RSAC vote during the February 20, 2008, meeting. During the May 13-14, 2008, meeting, the task force recommended clarifying the applicability of backup emergency communication system requirements in the February 1, 2008, final rule, and FRA announced its intention to exercise limited enforcement discretion for a new provision amending instruction requirements for emergency window exit removal. The Working Group ratified these recommendations on June 19, 2008. The task force met again on March 31, 2009, to clarify issues related to the followup NPRM raised by members. The modified rule text was presented to and approved by the Passenger Safety Working Group on June 8, 2009. The Working Group requested that FRA draft the rule text requiring daily inspection of removable panels or windows in vestibule doors and entrust the Emergency Preparedness Task Force with reviewing the text. FRA sent the draft text to the task force for review and comment on August 4, 2009. The draft rule text was approved by the Passenger Safety Working Group by mail ballot on December 23, 2009. The target timeframe for the NPRM publication is January 2011 due to competing Rail Safety Improvement Act of 2008 (RSIA) priorities. No additional task force meetings are currently scheduled. Contact: Brenda Moscoso, (202) 493-6282.

(Mechanical Task Force—Completed) Initial recommendations on mechanical issues (revisions to 49 CFR part 238) were approved by the full RSAC on January 26, 2005. At the Working Group meeting of September 7-8, 2005, the task force presented additional perfecting amendments and the full RSAC approved them on October 11, 2005. An NPRM was published in the Federal Register on December 8, 2005 (70 FR 73070). Public comments were due by February 17, 2006. The final rule was published in the Federal Register on October 19, 2006 (71 FR 61835), effective December 18, 2006.

(Crashworthiness Task Force—Completed) Among its efforts, the Crashworthiness Task Force provided consensus recommendations on static-end strength that were adopted by the Working Group on September 7-8, 2005. The full RSAC accepted the recommendations on October 11, 2005. The NPRM regarding front-end strength of cab cars and MU locomotives was published in the Federal Register on August 1, 2007 (72 FR 42016), with comments due by October 1, 2007. A number of comments were entered into the docket, and a Crashworthiness Task Force meeting was held September 9, 2008, to resolve comments on the NPRM. Based on the consensus language agreed to at the meeting, FRA has prepared the text of the final rule, incorporating the resolutions made at the task force meeting. The final rule language was adopted at the Passenger Safety Working Group meeting held on November 13, 2008. The language was presented and approved at the December 10, 2008, full RSAC meeting. The final rule was issued on December 31, 2009, and was published on January 8, 2010 (75 FR 1180). Contact: Gary Fairbanks, (202) 493-6322.

(Vehicle/Track Interaction Task Force) The task force is developing proposed revisions to 49 CFR parts 213 and 238, principally regarding high-speed passenger service. The task force met on October 9-11, 2007, and again on November 19-20, 2007, in Washington, DC, and presented the final task force report and final recommendations and proposed rule text for approval by the Passenger Safety Working Group at the December 11-12, 2007, meeting. The final report and the proposed rule text were approved by the Working Group and were presented to and approved by full RSAC vote during the February 20, 2008, meeting. The group met on February 27-28, 2008, and by teleconference on March 18, 2010, to address unresolved issues, and the NPRM was published on May 10, 2010 (75 FR 25928). The task force was called back into session on August 5-6, 2010, to review and consider NPRM comments, and the target date set for the Final Rule is April 2011. Contact: John Mardente, (202) 493-1335.

(General Passenger Safety Task Force) At the Passenger Safety Working Group meeting on April 17-18, 2007, the task force presented a progress report to the Working Group. The task force met on July 18-19, 2007, and afterwards it reported proposed reporting cause codes for injuries involving the platform gap, which were approved by the Working Group by mail ballot in September 2007. The full RSAC approved the recommendations for changes to 49 CFR Part 225 accident/incident cause codes on October 25, 2007. The General Passenger Safety task force presented draft guidance material for management of the gap that was considered and approved by the Working Group during the December 11-12, 2007, meeting, and was presented to and approved by full RSAC vote during the February 20, 2008, meeting. The group met on April 23-24, 2008, December 3-4, 2008, and on April 21-23, 2009, October 7-8, 2009, and July 30, 2010, by GoTo/Webinar teleconference. The task force continues work on passenger train door securement, “second train in station,” trespasser incidents, and System Safety-based solutions by developing a regulatory approach to System Safety. The task force has created two Task Groups to focus on these issues.

The Door Safety Task Group has reached consensus on 47 out of 48 safety issues and has five items that have been remanded to the task force for vote that are addressed in the area of passenger train door mechanical and operational requirements. The group presented draft regulatory language to the Passenger Safety Working Group at the September 16, 2010, meeting. More work remains to ensure the 49 CFR Part 238 door rule consensus document and the proposed American Public Transit Association (APTA) door standard (APTA SS-M-18-10) use uniform language. The Passenger Safety Working Group conditionally agreed to vote electronically on the proposal providing the new language and the APTA door standard (APTA SS-M-18-10) are uniform. No additional Door Safety Task Group meetings are currently scheduled.

The System Safety Task Group has produced draft regulatory language for a System Safety Rule, but further work on this rulemaking is delayed until a study required by the RSIA to determine whether additional protections are necessary to protect System Safety Program Plan risk analysis data is complete. The RSIA deadline for the System Safety Rule is October 2012. No additional System Safety Task Group meetings are currently scheduled. Contact: Dan Knote, (631) 567-1596.

Task 05-01—Review of Roadway Worker Protection Issues. This task was accepted on January 26, 2005, to review 49 CFR part 214, Subpart C—Roadway Worker Protection (RWP), and related sections of Subpart A; to recommend consideration of specific actions to advance the on-track safety of railroad employees and contractors engaged in maintenance-of-way activities throughout the general system of railroad transportation, including clarification of existing requirements. A Working Group was established, and reported to the RSAC any specific actions identified as appropriate. The first meeting of the Working Group was held on April 12-14, 2005. Over the course of 2 years, the group drafted and reached consensus on regulatory language for various revisions, clarifications, and additions to 32 separate items in 19 sections of the rule. However, two parties raised technical concerns regarding one of those items, namely, the draft language concerning electronic display of track authorities. The Working Group presented and received approval on all of its consensus recommendations for draft rule text to the full RSAC at the June 26, 2007, meeting. FRA will address the electronic display of track authorities issue along with eight additional items that the Working Group was unable to reach consensus on, through the traditional NPRM process. In early 2008, the external Working Group members were solicited to review the consensus rule text for errata review. In order to address the heightened concerns raised with the current regulations for adjacent-track, on-track safety, FRA decided to issue, on an accelerated basis, a separate NPRM that would focus on this element of the RWP rule alone. An NPRM with an abbreviated comment period regarding adjacent-track, on-track safety was published on July 17, 2008, but was later withdrawn on August 13, 2008, to permit further consideration of the RSAC consensus language. A second NPRM concerning adjacent-controlled-track, on-track safety was published on November 25, 2009, and comments were due to the docket by January 25, 2010. Comments have been reviewed and considered by FRA, and the target publication date for the final rule is April 2011. Due to the ongoing work of this separate rulemaking, the remaining larger NPRM relating to the various revisions, clarifications, and additions to 31 separate items in 19 sections of the rule, and FRA's recommendations for 9 nonconsensus items is now planned for June 2011. Contact: Christopher Schulte, (610) 521-8201.

Task 05-02—Reduce Human Factor-Caused Train Accident/Incidents. This task was accepted on May 18, 2005, to reduce the number of human factor-caused train accidents/incidents and related employee injuries. The Railroad Operating Rules Working Group was formed, and the Working Group extensively reviewed the issues presented. The final Working Group meeting devoted to developing a proposed rule was held February 8-9, 2006. The Working Group was not able to deliver a consensus regulatory proposal, but it did recommend that it be used to review comments on FRA's NPRM, which was published in the Federal Register on October 12, 2006 (71 FR 60372), with public comments due by December 11, 2006. Two reviews were held, one on February 8-9, 2007, and one on April 4-5, 2007. Consensus was reached on four items and those items were presented to and accepted by the full RSAC at the June 26, 2007, meeting. A final rule was published in the Federal Register on February 13, 2008 (73 FR 8442), with an effective date of April 14, 2008. FRA received four petitions for reconsideration of that final rule. The final rule that responded to the petitions for consideration was published in the Federal Register on June 16, 2008, and concluded the rulemaking. Working Group meetings were held on September 27-28, 2007; January 17-18, 2008; May 21-22, 2008; and September 25-26, 2008. The Working Group has considered issues related to issuance of Emergency Order No. 26 (prohibition on use of certain electronic devices while on duty), and “after arrival mandatory directives,” among other issues. The Working Group continues to work on after arrival orders, and at the September 25-26, 2008, meeting voted to create a Highway-Rail Grade Crossing Task Force to review highway-rail grade crossing accident reports regarding incidents of grade crossing warning systems providing “short or no warning” resulting from or contributed to “by train operational issues” with the intent to recommend new accident/incident reporting codes that would better explain such events, and which may provide information for remedial action going forward. A followup task is to review and provide recommendations regarding supplementary reporting of train operations-related, no-warning or short-warning incidents that are not technically warning system activation failures but that result in an accident/incident or a near miss. The task force has been formed and will begin work after other RSIA priorities are met. Contact: Douglas Taylor, (202) 493-6255.

Task 06-01—Locomotive Safety Standards. This task was accepted on February 22, 2006, to review 49 CFR Part 229, Railroad Locomotive Safety Standards, and revise it as appropriate. A Working Group was established with the mandate to report any planned activity to the full Committee at each scheduled full RSAC meeting, to include milestones for completion of projects and progress toward completion. The first Working Group meeting was held May 8-10, 2006. Working Group meetings were held on August 8-9, 2006; September 25-26, 2006; October 30-31, 2006; and the Working Group presented recommendations regarding revisions to requirements for locomotive sanders to the full RSAC on September 21, 2006. The NPRM regarding sanders was published in the Federal Register on March 6, 2007 (72 FR 9904). Comments received were discussed by the Working Group for clarification, and FRA published a final rule on October 19, 2007 (72 FR 59216). The Working Group met on January 9-10, 2007; November 27-28, 2007; February 5-6, 2008; May 20-21, 2008; August 5-6, 2008; October 22-23, 2008; January 6-7, 2009; and April 15-16, 2009. The Working Group has now completed the review of 49 CFR Part 229 and was unable to reach consensus regarding locomotive cab temperatures standards, locomotive alerters, and remote control locomotives. The group reached consensus regarding critical locomotive electronic standards, updated annual/biennial air brake standards, clarification of the “air brakes operate as intended” requirement, locomotive pilot clearance within hump classification yards, clarification of the “high voltage” warning requirement, an update of “headlight lamp” requirements, and language to allow locomotive records to be stored electronically. The Working Group presented a draft 49 CFR Part 229 rule text revision covering these items to the RSAC for consideration at the September 10, 2009, meeting, and received approval. FRA has proceeded with drafting an NPRM with a target publication date of December 2010. The Working Group may be called back to address comments received on the NPRM after publication. Contact: George Scerbo, (202) 493-6249.

Task 06-03—Medical Standards for Safety-Critical Personnel. This task was accepted on September 21, 2006, to enhance the safety of persons in the railroad operating environment and the public by establishing standards and procedures for determining the medical fitness for duty of personnel engaged in safety-critical functions. A Working Group has been established and will report any planned activity at each scheduled full RSAC meeting, including milestones for completion of projects and progress toward completion. The first Working Group meeting was held December 12-13, 2006. The Working Group has held followup meetings on the following dates: February 20-21, 2007; July 24-25, 2007; August 29-30, 2007; October 31-November 1, 2007; December 4-5, 2007; February 13-14, 2008; March 26-27, 2008; April 22-23, 2008; and December 8-9, 2009. At the April 2008 meeting, FRA announced that the agency would prepare an NPRM draft based on the discussions to date and schedule a further meeting for review of the document. The Working Group was reconvened December 8-9, 2009, and an updated draft NPRM was presented to the Working Group for review and comment. The Working Group has held followup meetings on February 16-17, 2010; March 11-12, 2010; May 24-26, 2010; and August 31-September 1, 2010. The Working Group last met November 18-19, 2010, and is planning to schedule its next meeting on dates to be determined by Working Group members during the second quarter of FY 2011. No additional Medical Standards Working Group meetings are currently scheduled at this time. Once completed, the draft medical standards rule will be presented to the full RSAC for approval. Contact: Dr. Bernard Arseneau, (202) 493-6002.

(Critical Incident Task Force) The Medical Standards Working Group accepted RSAC Task 2009-02, Critical Incident Response, during the December 8-9, 2010, meeting. The Working Group has been tasked to provide advice regarding development of implementing regulations for critical incident stress plans, as required by the RSIA. On September 10, 2009, the task was accepted to provide advice for development of a proposed rule that implements Section 410 of the RSIA requiring each covered railroad to implement an approved “critical incident stress plan.” During the Medical Standards Working Group meeting held May 24-25, 2010, the Working Group established a Critical Incident Task Force. The task force will report its activities and progress to the Medical Standards Working Group and full RSAC during each Working Group and full RSAC meeting. FRA has solicited applications to assess the applicability of current knowledge about post traumatic interventions and to advance evidence-based recommendations for controlling the risks associated with traumatic exposure in the railroad setting. The Medical Standards Working Group plans to nominate the grantee for appointment to the Critical Incident Task Force during the next Working Group meeting. An initial meeting of the Critical Incident Task Force will be scheduled once the grant has been awarded. Contact: Dr. Bernard Arseneau, (202) 493-6002.

(Physicians Task Force) A Physicians Task Force was established by the Working Group in May 2007. The task force is developing medical criteria and protocols for medical conditions. These medical criteria and protocols will be used to assess the medical fitness of safety-critical employees to perform safety-critical service under a proposed medical standards rule. The medical criteria and protocols will be presented to the Medical Standards Working Group and FRA when complete. The Physicians Task Force has had meetings or conference calls on July 24, 2007; August 20, 2007; October 15, 2007; October 31, 2007; June 23-24, 2008; September 8-10, 2008; October 8, 2008; November 12-13, 2008; December 8-10, 2008; January 27-28, 2009; February 24-25, 2009; March 11-12, 2009; March 31-April 1, 2009; April 15, 2009; April 22, 2009; May 13, 2009; May 20, 2009; June 17, 2009; January 21-22, 2010; March 3, 2010; and August 16-17, 2010. The Physicians Task Force last met October 25-26, 2010, and plans to schedule a conference call during December 2010 and to schedule a followup meeting during the second quarter of FY 2011. Contact: Dr. Bernard Arseneau, (202) 493-6002.

Task 07-01—Track Safety Standards. This task was accepted on February 22, 2007, to consider specific improvements to the Track Safety Standards or other responsive actions, supplementing work already underway on continuous welded rail (CWR), specifically to: Review controls applied to the re-use of rail in CWR “plug rail”; review the issue of cracks emanating from bond wire attachments; consider improvements in the Track Safety Standards related to fastening of rail to concrete ties; and ensure a common understanding within the regulated community concerning requirements for internal rail flaw inspections. The tasks were assigned to the Track Safety Standards Working Group. The Working Group will report any planned activity to the full Committee at each scheduled full RSAC meeting, including milestones for completion of projects and progress toward completion. The first Working Group meeting was held on June 27-28, 2007, and the group met again on August 15-16, 2007, and October 23-24, 2007. Two task forces were created under the Working Group: Concrete Ties Task Force and Rail Integrity Task Force. The Concrete Ties Task Force met on November 26-27, 2007; February 13-14, 2008; April 16-17, 2008; July 9-10, 2008; and September 17-18, 2008. The Concrete Ties Task Force finalized consensus language regarding concrete crossties (49 CFR Part 213) and presented a recommendation to the Track Standards Working Group at the November 20, 2008, Working Group meeting. The language was approved by both the Working Group and the December 10, 2008, RSAC meeting and the task force was dissolved. The Concrete Crossties NPRM was published on August 26, 2010 (75 FR 52490). The Track Standards Working Group met on October 26-27, 2010, to discuss the outstanding issue of Plug rail. The Working Group reached consensus on regulatory language regarding the reuse of plug rail, and the consensus language will be presented to the RSAC Committee during the December 14, 2010, meeting for approval. RSAC Task 07-01 will be complete if approved by the Committee and no further Working Group meetings are currently scheduled. Contact: Carlo Patrick, (202) 493-6399.

Task 08-03—Track Safety Standards Rail Integrity. This task was accepted on September 10, 2008, to consider specific improvements to the Track Safety Standards or other responsive actions designed to enhance rail integrity. The Rail Integrity Task Force was created in October 2007 under Task 07-01 and first met on November 28-29, 2007. The task force met on February 12-13, 2008; April 15-16, 2008; July 8-9, 2008; September 16-17, 2008; February 3-4, 2009; June 16-17, 2009; October 29-30, 2009; January 20-21, 2010; March 9-11, 2010; and April 20, 2010. Consensus has been achieved on bond wires and a common understanding on internal rail flaw inspections has been reached. The task force has reached consensus to recommend to the Working Group that the item regarding “the effect of rail head wear, surface conditions and other relevant factors on the acquisition and interpretation of internal rail flaw test results” be closed. The task force does not recommend regulatory action concerning head wear. Surface conditions and their effect on test integrity has been discussed and understood during dialogue concerning common understanding on internal rail flaw inspections. The task force believes that new technology has been developed that improves test performance and will impact the effect of head wear and surface conditions on interpretation of internal rail flaw test results. Consensus text was developed on recommended changes that would approach a performance-based approach to flaw detection scheduling. However, the group did not reach consensus on what length of segment of track is practical to use on determining test cycles. Consensus text has been finalized for recommended changes to 49 CFR 213.113 (Defective rails), 213.237 (Rail inspection), and 213.241 (Inspection records). The task force has developed a new 49 CFR 213.238, Qualified operator language, that defines the minimum requirements for the training of a rail flaw detector car operator. The task force presented the consensus language to the Track Standards Working Group during the July 28-30, 2010, meeting and the Track Standards Working Group presented its consensus recommendations to the RSAC Committee for approval during the September 23, 2010, Committee meeting. By majority vote, the RSAC accepted the recommendations of the Track Standards Working Group and forwarded those recommendations to the FRA Administrator completing RSAC Task 08-03. The associated NPRM is currently in development. Contact: Carlo Patrick, (202) 493-6399.

Task No. 08-04—Positive Train Control. This task was accepted on December 10, 2008, to provide advice regarding the development of implementing regulations for Positive Train Control (PTC) systems and their deployment under the RSIA. The task included a requirement to convene an initial meeting no later than January 2009, and to report recommendations back to RSAC no later than April 24, 2009. The PTC Working Group was created in December 2008 by Working Group member nominations from committee member organizations under Task 08-04, and the kickoff meeting was held on January 26-27, 2009. The group met again on February 11-13; 25-27; March 17-18, 2009; and March 31-April 1, 2009. On April 2, 2009, the RSAC approved the request by the Working Group for agreement to vote on the draft rule text recommendations from the working group by mail ballot. On May 11, 2009, by majority vote via mail ballot, the RSAC accepted the recommendations of the PTC Working Group and forwarded those recommendations to the Administrator, with the understanding that there are other issues for which FRA would be making proposals with respect to their resolution. The NPRM was published on July 21, 2009 (74 FR 36152), with comments due by August 20, 2009. In addition, a public hearing was held on August 13, 2009 (74 FR 36152). The PTC Working Group was reconvened on August 31-September 2, 2009, to discuss comments received on the NPRM, and the PTC Working Group presented consensus rule text items to the RSAC for approval at the September 10, 2009, meeting. The PTC consensus rule text was approved by majority RSAC vote by electronic ballot on September 24, 2009, and the final rule was published on January 15, 2010 (75 FR 2598). Final rule amendments were published on September 27, 2010 (75 FR 59108). No additional meetings are scheduled.

(PTC Implementation Plan Task Force) A task force was formed to assist FRA in developing a model template for a successful PTC Implementation Plan (PTCIP), and in development of an example associated Risk Prioritization Methodology. PTCIPs were required to be submitted by April 16, 2010, under the mandate of the RSIA. On January 12, 2010, FRA posted to its public Web site a final version of a PTCIP template and an example risk prioritization methodology model for prioritization of line segment implementation. This was the same day the final rule was made available for public review. No further meetings of this task force are currently scheduled. Contact: Tom McFarlin, (202) 493-6203.

(PTC Risk Evaluation Task Force) The creation of the PTC Risk Evaluation Task Force was approved by the PTC Working Group on April 1, 2010, to develop a computer model to estimate the risk of PTC-preventable accidents on a line segment basis. The group was formed by nominations from members of the PTC Working Group and the kickoff meeting was held via GoTo/Webinar on June 17, 2010. A followup meeting was held on August 3, 2010, and an additional followup GoTo/Webinar meeting was held on September 7, 2010. No additional meetings are scheduled at this time. Contact: Mark Hartong, (202) 493-1332.

Task No. 08-07—Conductor Certification. This task was accepted on December 10, 2008, to develop regulations for certification of railroad conductors, as required by the RSIA, and to consider any appropriate related amendments to existing regulations and report recommendations for proposed or interim final rule (as determined by FRA in consultation with the Office of the Secretary of Transportation and the Office of Management and Budget) by October 16, 2009. The Conductor Certification Working Group was officially formed by nominations from member organizations in April 2009, and the first meeting was held on July 21-23, 2009. Additional meetings were held on August 25-27, 2009; September 15-17, 2009; October 20-22, 2009; November 17-19, 2009; and December 16-18, 2009. Tentative consensus was reached on the vast majority of the regulatory text. The Working Group approved the draft rule text by electronic ballot and the consensus draft language was approved by the RSAC on March 18, 2010, by unanimous vote as the recommendation from the Committee to the FRA Administrator. The resulting NPRM was published in the Federal Register on November 10, 2010 (75 FR 69166). The Working Group may be called back to meet and review any comments received on the NPRM. After the final rule is published, the Working Group will reconvene to make conforming amendments to the locomotive engineer certification regulation as appropriate. Contact: Mark McKeon, (202) 493-6350.

Task No. 09-01—Passenger Hours of Service. This task was accepted on April 2, 2009, to provide advice regarding development of implementing regulations for the hours of service of operating employees of commuter and intercity passenger railroads under the RSIA. The group has been tasked to review available data concerning the effects of fatigue on the performance of subject employees and to consider the role of fatigue prevention in determining maximum hours of service. The group has also been tasked to consider the potential for alternative approaches to hour of service using available tools for evaluating the impact of various crew schedules and determine the effect of alternative approaches on the availability of employees to support passenger service. The group is charged to report whether existing hours of service restrictions are effective in preventing fatigue among subject employees, whether an alternative approach to hours of service for the subject employees would enhance safety and whether alternative restrictions on hours of service could be coupled with other fatigue countermeasures to promote the fitness of employees for safety-critical duties. The Passenger Hours of Service Working Group was officially formed through the formal Committee member nomination process in May 2009, and the first meeting was held on June 24, 2009. Followup Working Group meetings were held on February 2-3, 2010; March 4-5, 2010; April 6, 2010; May 20, 2010; and June 29, 2010. Consensus has been reached on a majority of the issues and the draft rule text has been matured. The Working Group plans to bring the draft to electronic vote during the month of August 2010 and, if passed, will present its recommendations to the RSAC on September 23, 2010. A Passenger Hours of Service Task Force was formed to review collected data and provide recommendations to the Working Group. The task force met on January 14-15, 2010; March 30-31, 2010; and June 16, 2010. The Working Group approved the draft rule text by electronic ballot on September 22, 2010, and the consensus draft language was approved by the RSAC on October 15, 2010, by unanimous electronic vote as the recommendation from the Committee to the FRA Administrator. Work to finalize the NPRM for publication is underway with a target publication date of April 2011. The Working Group will meet on December 9, 2010, to discuss the approved consensus language and the NPRM preamble. Contact: Mark McKeon, (202) 493-6350.

Task No. 10-01—Minimum Training Standards and Plans. This task was accepted on March 18, 2010, to establish minimum training standards for each class and craft of safety-related railroad employee and their railroad contractor and subcontractor equivalents, as required by RSIA. The group has been tasked to assist FRA in developing regulations responsive to the legislative mandate, while ensuring generally accepted principles of adult learning are employed in training and development, and delivery; determine a reasonable method for submission and FRA review of training plans which takes human resource limitations into account; establish reasonable oversight criteria to ensure training plans are effective, using the operational tests and inspections requirements of 49 CFR part 217 as a model. The Training Standards Working Group was officially formed through the formal Committee member nomination process in March 2010, and the first meeting was held on April 13-14, 2010. A followup Working Group meeting was held on June 2-3, 2010, and additional followup meetings are scheduled for August 17-18 and September 21-22, 2010. A Task Analysis Task Force was formed under the Working Group to develop a task analysis template, and met in Florence, KY, on June 22-23, 2010, with CSX Transportation hosting the event. The group developed a 21-page task analysis document for an outbound train yard carman position, which is complete regarding FRA railroad safety laws, regulations, and orders. The Working Group met on August 17-18 and October 19-20, 2010, and by GoTo/Webinar on November 15-16, 2010. The Working Group has reached consensus and the resulting training standards draft regulatory language will be presented to the RSAC Committee for approval on December 14, 2010. No additional Working Group meetings are scheduled at this time. Contact: Michael Logue, (202) 493-6301.

Task No. 10-02—Safety Technology in Dark Territory. This task was accepted on September 23, 2010, to provide advice regarding development of standards, guidance, regulations, or orders governing the development, use, and implementation of rail safety technology in dark territory, as required by Section 406 of the RSIA. Specifically, to assist FRA in developing regulations responsive to the legislative mandate and to report recommendations to the FRA Administrator for a proposed or interim final rule (as determined by FRA in consultation with the Office of the Secretary of Transportation and the Office of Management and Budget) by September 30, 2011. RSAC member organizations have submitted expressions of interest in participating in the Dark Territory Working Group and formation of the group and timelines for the task are on the RSAC meeting agenda for the December 14, 2010 Committee meeting. Contact: Olga Cataldi, (202) 493-6321.

Completed Tasks

Task 96-1—(Completed) Revising the freight power brake regulations.

Task 96-2—(Completed) Reviewing and recommending revisions to the Track Safety Standards (49 CFR Part 213).

Task 96-3—(Completed) Reviewing and recommending revisions to the Radio Standards and Procedures (49 CFR Part 220).

Task 96-5—(Completed) Reviewing and recommending revisions to Steam Locomotive Inspection Standards (49 CFR part 230).

Task 96-6—(Completed) Reviewing and recommending revisions to miscellaneous aspects of the regulations addressing locomotive engineer certification (49 CFR part 240).

Task 96-7—(Completed) Developing roadway maintenance machines (on-track equipment) safety standards.

Task 96-8—(Completed) This planning task evaluated the need for action responsive to recommendations contained in a report to Congress titled, Locomotive Crashworthiness & Working Conditions.

Task 97-1—(Completed) Developing crashworthiness specifications (49 CFR part 229) to promote the integrity of the locomotive cab in accidents resulting from collisions.

Task 97-2—(Completed) Evaluating the extent to which environmental, sanitary, and other working conditions in locomotive cabs affect the crew's health and the safe operation of locomotives, proposing standards where appropriate.

Task 97-3—(Completed) Developing event recorder data survivability standards.

Task 97-4 and Task 97-5—(Completed) Defining PTC functionalities, describing available technologies, evaluating costs and benefits of potential systems, and considering implementation opportunities and challenges, including demonstration and deployment.

Task 97-6—(Completed) Revising various regulations to address the safety implications of processor-based signal and train control technologies, including communications-based operating systems.

Task 97-7—(Completed) Determining damages qualifying an event as a reportable train accident.

Task 00-1—(Completed-task withdrawn) Determining the need to amend regulations protecting persons who work on, under, or between rolling equipment and persons applying, removing, or inspecting rear end marking devices (Blue Signal Protection).

Task 01-1—(Completed) Developing conformity of FRA's regulations for accident/incident reporting (49 CFR part 225) to revised regulations of the Occupational Safety and Health Administration, U.S. Department of Labor, and to make appropriate revisions to the FRA Guide for Preparing Accident/Incident Reports (Reporting Guide).

Task 08-01—(Completed) Report on the Nation's Railroad Bridges. Report to FRA on the current state of railroad bridge safety management; update the findings and conclusions of the 1993 Summary Report of the FRA Railroad Bridge Safety Survey.

Task No. 08-06—(Completed) Hours of Service Recordkeeping and Reporting. Develop revised recordkeeping and reporting requirements for hours of service of railroad employees. Final rule published May 27, 2009, with an effective date of July 16, 2009. (74 FR 25330).

Task No. 08-05—(Completed) Railroad Bridge Safety Assurance. Develop a rule encompassing the requirements of Section 417 of the RSIA (Railroad Bridge Safety Assurance) regarding bridge failure. Final rule published on July 15, 2010 (75 FR 41282).

Task 06-02—(Completed) Track Safety Standards and CWR. Issue requirements for inspection of joint bars in CWR to detect cracks that could affect the integrity of the track structure published a final rule on August 25, 2009, with correcting amendment published on October 21, 2009.

Please refer to the notice published in the Federal Register on March 11, 1996, (61 FR 9740) for more information about the RSAC.

Issued in Washington, DC, on December 2, 2010.
Robert C. Lauby,
Deputy Associate Administrator for Regulatory and Legislative Operations.

[FR Doc. 2010-30620 Filed 12-6-10; 8:45 am]

BILLING CODE 4910-06-P